DEPARTMENT OF COMMERCE

Economic Development Administration

Requirements for Approved Construction Projects

ACTION: Proposed collection; comment request.

SUMMARY: The Department of Commerce as part of its continuing effort to reduce paperwork and respondent burden invites the general public and other Federal agencies to take this opportunity to comment on proposed or continuing information collections, as required by the Paperwork Reduction Act of 1994, 44 U.S.C. 3501, et seq.

DATES: Written comments must be submitted on or before October 1, 2002.

ADDRESSES: Direct all written comments to Madeleine Clayton, Departmental Forms Clearance Officer, Department of Commerce, Room 6608, 14th and Constitution Avenue, NW., Washington, DC 20230 or via Internet at MClayton@doc.gov.

FOR FURTHER INFORMATION CONTACT: Requests for additional information or copies of the information collection instruments and instructions should be directed to Patricia Flynn, Director, Operations Review and Analysis Division, Economic Development Administration, Room 7015, Washington, DC 20230, telephone (202) 482-5353.

SUPPLEMENTARY INFORMATION:

I. Abstract

The Economic Development Administration (EDA) helps our partners across the nation (states, regions, and communities) create wealth and minimize poverty by promoting a favorable business environment to attract private capital investment and jobs through world-class capacity building, planning, infrastructure, research grants, and strategic initiatives.

This information collection is needed to monitor construction projects for compliance with Federal and other program and administrative requirements as set forth in EDA's authorizing legislation the Public Works and Economic Development Act of 1965, as amended, including the comprehensive amendments by the Economic Development Reform Act of 1998, Public Law 105-393, (PWEDA), EDA's implementing regulations at 13 CFR parts 305 and 308, and the Common Rule as set forth at 15 CFR parts 14 and 24. The Requirements for Approved Construction Projects manual is intended to supplement and explain the requirements that apply to Federally-assisted construction projects. The requirements are not intended to derogate, replace or negate the above cited Federal requirements. The information collected from grant recipients is used by EDA to safeguard the public's interest in the grant assets, and to promote the effective use of grant funds accomplishing the purpose for which they were granted. EDA uses information gathered to analyze and report on program performance for over 1,160 projects which at any one time are still in design or construction.

II. Method of Collection

To responsibly administer its programs and to fulfill its statutory mandate, EDA must obtain certain data to monitor project progress from the earliest stages of design to the final performance measures report following completion of construction. The data is used to determine if time schedules, contract specifications, procurement regulations, environmental regulations, civil rights regulations, bonding requirements, and financial safeguards, among others are being followed. Additionally, EDA must collect information on the jobs to be created and saved, by those that apply for and receive its assistance (applicants and recipients), and by those that create or save 15 or more jobs as a result of EDA's assistance.

III. Data

OMB Number(s): 0610-0096.

Form Number: Not Applicable.

Burden: 23,200.

Type of Review: Extension of currently approved collection.

Affected Public: EDA-funded grantees: State, local and tribal governments; community organizations; and not-for-profit organizations.

Estimated Number of Respondents: Approximately 1,160.

Estimated Time per Response: 20 hours.

Estimated Total Annual Burden Hours: 23,200.

Estimate Total Annual Cost: $928,000.

IV. Request for Comments

Comments are invited on: (a) Whether the proposed collection of information is necessary for the proper performance of the functions of the agency, including whether the information shall have practical utility; (b) the accuracy of the agency's estimate of the burden (including hours and cost) of the proposed collection of information; (c) ways to enhance the equality, utility and clarity of the information to be collected; and (d) ways to minimize the burden of the collection of information on respondents, including through the use of automated collection techniques or other forms of information technology.

Comments submitted in response to this notice will be summarized and/or included in the request for OMB approval of this information collection; they also will become a matter of public record.

Dated: July 29, 2002.
Madeleine Clayton,
Departmental Paperwork Clearance Officer, Office of the Chief Information Officer.

[FR Doc. 02-19516 Filed 8-1-02; 8:45 am]

BILLING CODE 3510-34-P